DEPARTMENT OF THE INTERIOR

Bureau of Land Management

[LLMTC00000.L16100000.DQ0000.LXSS036E0000 MO#4500079298]

Notice of Availability of the Miles City Field Office Proposed Resource Management Plan and Final Environmental Impact Statement, Miles City Field Office, Montana

AGENCY: Bureau of Land Management, Interior.

ACTION: Notice of availability.

SUMMARY: In accordance with the National Environmental Policy Act of 1969 (NEPA), as amended, and the Federal Land Policy and Management Act of 1976 (FLPMA), as amended, the Bureau of Land Management (BLM) has prepared a Proposed Resource Management Plan (RMP) and Final Environmental Impact Statement (EIS) for the Miles City Field Office planning area and by this notice is announcing its availability.

DATES: BLM planning regulations state that any person who meets the conditions as described in the regulations may protest the BLM's Proposed RMP/Final EIS. A person who meets the conditions and files a protest must file the protest within 30 days of the date that the Environmental Protection Agency publishes its notice of availability in the Federal Register.

ADDRESSES: Copies of the Miles City Field Office Proposed RMP/Final EIS have been sent to affected Federal, State, and local government agencies, tribal governments, and to other stakeholders and members of the public who have requested copies. Copies of the Proposed RMP/Final EIS are available for public inspection at the following locations:

• BLM, Montana State Office, 5001 Southgate Drive, Billings, MT 59101

• BLM, Miles City Field Office, 111 Garryowen Road, Miles City, MT 59301

Interested persons may also review the Proposed RMP/Final EIS on the Internet at: http://www.blm.gov/mt/st/en/fo/miles_city_field_office/rmp.html.

All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Mary Bloom, Miles City RMP Team Leader, telephone: 406-233-2800; address: 111 Garryowen Road, Miles City, MT 59301; email: mbloom@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The planning area includes lands within the BLM Miles City Field Office's administrative boundaries in the following Montana counties: Carter, Custer, Daniels, Dawson, Fallon, Garfield, McCone, Powder River, Prairie, Richland, Roosevelt, Rosebud, Sheridan, Treasure, Wibaux and portions of Big Horn and Valley. The planning area includes all lands, regardless of jurisdiction, totaling approximately 25.8 million acres; however, the BLM will only make decisions on lands that fall under the BLM's jurisdiction. Lands within the Planning Area under the BLM's jurisdiction make up the Decision Area. The Decision Area consists of BLM-administered surface, totaling approximately 2.75 million acres and the Federal mineral estate, totaling approximately 10.6 million acres. The Miles City Field Office RMP will revise and replace the Big Dry (1996) and Powder River (1985) RMPs. The Miles City Draft RMP/EIS was made available for a 90-day comment period on March 8, 2013 (78 FR 15041). The Draft RMP/EIS included a series of management actions, within five management alternatives, designed to address management challenges and issues raised during scoping. These included, but were not limited to, energy development (coal, oil and gas, renewable energy, and locatable minerals), wildlife habitat management, including Greater Sage-Grouse, livestock grazing, air quality, special management areas including areas of critical environmental concern (ACEC), and management of lands with wilderness characteristics. In accordance with 43 CFR 1610.7-2(b), the Notice of Availability for the Draft RMP/EIS also announced a concurrent public comment period on nominated ACECs.

Comments on the Draft RMP/EIS were considered and incorporated as appropriate into the Proposed RMP/Final EIS, which analyzes five alternatives:

1. Alternative A (No Action): Continues existing management;

2. Alternative B: Emphasizes conservation of natural and cultural resources while providing for compatible development and use;

3. Alternative C: Provides development opportunities while protecting sensitive resources;

4. Alternative D: Emphasizes resource development and use while protecting natural and cultural resources; and

5. Alternative E (Proposed): Allows resource use if the activity can be conducted in a manner that conserves physical, biological, heritage and visual resources.

As modified, Alternative E is now presented as the Miles City Proposed RMP in the Proposed RMP/Final EIS. The Proposed RMP/Final EIS would provide comprehensive, long-range decisions for the use and management of resources in the planning area administered by the BLM and focus on the principles of multiple use and sustained yield. Alternative E generally allows resource use if the activity can be conducted in a manner that conserves physical, biological, heritage and visual resources. Alternative E allocates land as Special Recreation Management Areas (eight) and ACECs (eighteen) and emphasizes moderate constraints on resource uses to reduce impacts to resource values. Additionally, Alternative E applies a no surface occupancy (NSO) stipulation to oil and gas leasing proposed in riparian/wetland systems and aquatic habitats and a controlled surface use (CSU) stipulation within 300 feet of riparian and wetland areas. Alternative E increases, over existing management, conservation within Greater Sage-Grouse habitats.

The Proposed RMP/Final EIS, Alternative E, includes ACEC designation for the following areas (all resource use limitations are subject to valid existing rights):

• Ash Creek Divide (7,921 acres), Bug Creek (3,837 acres), Hell Creek (19,373 acres), and Sand Arroyo (9,052 acres) ACECs would continue to be designated and managed as ACECs. Management actions proposed for these significant paleontological areas are: Mineral material sales and permits would be closed, oil and gas leasing would be allowed with an NSO stipulation, geophysical exploration would not be allowed, rights-of-way (ROWs) would be allowed in the Hell Creek ACEC and avoided in the Ash Creek Divide, Bug Creek and Sand Arroyo ACECs, geothermal leasing would be closed, and management would be per visual resource management (VRM) Classes II through III.

• Big Sheep Mountain ACEC (363 acres) would continue to be designated and managed as an ACEC. Management actions proposed for this significant cultural resource site are: Mineral material sales and permits would be closed, oil and gas leasing would be allowed with an NSO stipulation, geophysical exploration would not be allowed, geothermal leasing would be closed, the area would be managed as a ROW avoidance area, livestock grazing would be allowed, and management would be per VRM Class II.

• Hoe ACEC (145 acres) would continue to be designated and managed as an ACEC. Management actions proposed for this significant cultural resource site are: Mineral material sales and permits would be closed, oil and gas leasing would be allowed with an NSO stipulation, geophysical exploration would not be allowed, the area would be managed as a ROW avoidance area, geothermal leasing would be closed, 19 acres of the ACEC would be closed to livestock grazing, and management would be per VRM Class II.

• Jordan Bison Kill ACEC (160 acres) would continue to be designated and managed as an ACEC. Management actions proposed for this significant cultural resource site are: Mineral material sales and permits would be closed, oil and gas leasing would be allowed with an NSO stipulation, geophysical exploration would not be allowed, the area would be managed as a ROW avoidance area, geothermal leasing would be closed, and management would be per VRM Class II.

• Powder River Depot ACEC (1,401 acres) would continue to be managed and designated as an ACEC. Management actions proposed for this significant cultural resource site are: Mineral material sales and permits would be closed, oil and gas leasing would be allowed with an NSO stipulation, geophysical exploration would not be allowed, the area would be managed as a ROW avoidance area, geothermal leasing would be closed, livestock grazing would be excluded on 19 acres of the ACEC, and management would be per VRM Class I (Terry Badlands WSA overlap) and II (remainder of the ACEC).

• Seline ACEC (80 acres) would continue to be designated and managed as an ACEC. Management actions proposed for this significant cultural resource site are: Mineral material sales and permits would be closed, oil and gas leasing would be allowed with an NSO stipulation, geophysical exploration would not be allowed, the area would be managed as a ROW avoidance area, geothermal leasing would be closed, and management would be per VRM Class II.

• Battle Butte Battlefield ACEC would increase in size from 121 acres to 320 acres and continue to be designated and managed as an ACEC. Management actions proposed for this significant cultural resource site are: Mineral material sales and permits would be closed, oil and gas leasing would be allowed with an NSO stipulation, geophysical exploration would not be allowed, ROWs would be excluded, and management would be per VRM Class II.

• Reynolds Battlefield ACEC would increase in size from 324 acres to 922 acres and would continue to be designated and managed as an ACEC. Management actions proposed for this significant cultural resource site are: Mineral material sales and permits would be closed, oil and gas leasing would be allowed with an NSO stipulation, geophysical exploration would not be allowed, the area would be managed as a ROW avoidance area, and management would be per VRM Class II.

• Finger Buttes ACEC (1,520 acres) would continue to be designated and managed as an ACEC. Management actions proposed for this significant scenic area are: Mineral material sales and permits would be closed, oil and gas leasing would be allowed with an NSO stipulation, geophysical exploration would not be allowed, the area would be managed as a ROW avoidance area, geothermal leasing would be closed, and management would be per VRM Class II.

• Smoky Butte ACEC would decrease in size from 80 to 40 acres and would continue to be designated and managed as an ACEC. Management actions proposed for this significant geologic area are: Mineral material sales and permits would be closed, oil and gas leasing would be allowed with an NSO stipulation, geophysical exploration would be allowed, OHV use would be limited to existing roads and trails, ROWs would be allowed, and management would be per VRM Class III.

• Cedar Creek Battlefield (1,022 public surface acres) would be designated an ACEC. This significant battlefield would be managed to enhance and protect cultural resources. Management actions proposed for this area are: Mineral material sales and permits would be closed, oil and gas leasing would be allowed with a NSO stipulation, geophysical exploration would be not be allowed, off-highway vehicle (OHV) use would be limited to existing roads and trails, the area would be managed as a ROW avoidance area, and management would be per VRM Class II.

• Flat Creek (339 acres) would be designated an ACEC. Management actions proposed for this significant paleontological area are: Mineral material sales and permits would be closed, oil and gas leasing would be allowed with an NSO stipulation, geophysical exploration would not be allowed, and the area would be managed as a ROW avoidance area. Flat Creek would be managed per VRM Class III.

• Powderville (9,518 acres) would be designated an ACEC. Management actions proposed for this significant paleontological area are: Mineral material sales and permits would be closed, oil and gas leasing would be allowed with an NSO stipulation, geophysical exploration would not be allowed, OHV use would be limited to existing roads and trails, and the area would be managed as a ROW avoidance area. The Powderville area would be managed per VRM Classes II and III.

• Long Medicine Wheel (179 acres) would be designated an ACEC. Management actions proposed for this significant cultural resource site are: Mineral material sales and permits would be closed, oil and gas leasing would be allowed with an NSO stipulation, geophysical exploration would not be allowed, ROWs would be excluded, and management would be per VRM Class II.

• The Walstein area (1,519 acres) would be designated an ACEC. Management actions proposed for this significant cultural and paleontological area are: Mineral material sales and permits would be closed, oil and gas leasing would be allowed with an NSO stipulation, geophysical exploration would not be allowed, OHV use would be closed, the area would be managed as a ROW avoidance area, and management would be per VRM Class II.

The Proposed RMP/Final EIS does not adopt the following nominated ACECs: Black-footed Ferret, Howrey Island, Piping Plover and Yonkee.

The Miles City Field Office Proposed RMP/Final EIS is one of a total of 15 separate EISs that make up the BLM and Forest Service National Greater Sage-Grouse Planning Strategy. Greater-Sage Grouse habitat within the planning area consists of:

• Priority Habitat Management Area (PHMA)—Areas identified as having the highest conservation value for maintaining sustainable greater sage-grouse populations; include breeding, late brood-rearing, and winter concentration areas.

• General Habitat Management Area (GHMA)—Areas of seasonal or year-round habitat outside of PHMA.

Alternative E supports management of greater sage-grouse seasonal habitats and maintaining habitat connectivity to achieve population objectives. Alternative E would limit or eliminate new surface disturbance in PHMA, while minimizing disturbance in GHMA.

The BLM and Forest Service, via the Western Association of Fish and Wildlife Agencies (WAFWA) Management Zone Greater Sage-Grouse Conservation Team, will develop a Regional Mitigation Strategy to guide the application of the mitigation hierarchy to address impacts within that Zone. The Regional Mitigation Strategy should consider any State-level greater sage-grouse mitigation guidance that is consistent with the requirements. The Regional Mitigation Strategy will be developed in a transparent manner, based on the best science available and standardized metrics. Instructions for filing a protest with the Director of the BLM regarding the Proposed RMP/Final EIS may be found in the “Dear Reader” letter of the Miles City Field Office Proposed RMP/Final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your address, phone number, email address, or other personal identifying information in your protest, you should be aware that your entire protest—including your personal identifying information—may be made publicly available at any time. While you may ask us in your protest to withhold your personal identifying information from public review, we cannot guarantee that we will be able to do so.

Authority: 40 CFR 1506.6, 40 CFR 1506.10, 43 CFR 1610.2, 43 CFR 1610.5.

Jamie E. Connell,
State Director, Montana/Dakotas.

[FR Doc. 2015-12997 Filed 5-28-15; 8:45 am]

BILLING CODE 4310-DN-P